DEPARTMENT OF AGRICULTURE

Rural Business-Cooperative Service

Inviting Applications for Rural Cooperative Development Grants

AGENCY: Rural Business-Cooperative Service, USDA.

ACTION: Notice of Funding Availability (NOFA).

SUMMARY: USDA announces the availability of grants through the Rural Cooperative Development Grant (RCDG) Program for Fiscal Year (FY) 2012. Nonprofit corporations and institutions of higher education may apply. Approximately $5.8 million is available. Applications are limited to a maximum of $175,000 and matching funds are required. The grant period is limited to a one-year timeframe.

DATES: You must submit your complete application by August 6, 2012, or it will not be considered for FY 2012 grant funding.

ADDRESSES: You should contact a USDA Rural Development State Office (State Office) if you have questions. You are encouraged to contact your State Office well in advance of the application deadline to discuss your project and ask any questions about the application process. Application materials may also be obtained at http://www.rurdev.usda.gov/BCP-RCDG_Grants.html. If you want to submit an electronic application, follow the instructions for the RCDG funding announcement on http://www.grants.gov. If you want to submit a paper application, send it to the State Office located in the State where you are headquartered. Here is a list of State Offices and their contact information (Note: Telephone numbers listed are not toll-free.):

Alabama

USDA Rural Development State Office, Sterling Centre, Suite 601, 4121 Carmichael Road, Montgomery, AL 36106-3683, (334) 279-3400/TDD (334) 279-3495

Alaska

USDA Rural Development State Office, 800 West Evergreen, Suite 201, Palmer, AK 99645-6539, (907) 761-7705/TDD (907) 761-8905

American Samoa (see Hawaii)

Arizona

USDA Rural Development State Office, 230 N. 1st Ave., Suite 206, Phoenix, AZ 85003, (602) 280-8701/TDD (602) 280-8705

Arkansas

USDA Rural Development State Office, 700 West Capitol Avenue, Room 3416, Little Rock, AR 72201-3225, (501) 301-3200/TDD (501) 301-3279

California

USDA Rural Development State Office, 430 G Street, # 4169, Davis, CA 95616-4169, (530) 792-5800/TDD (530) 792-5848

Colorado

USDA Rural Development State Office, Denver Federal Center, Building 56, Room 2300, PO Box 25426, Denver, CO 80225-0426, (720) 544-2903

Commonwealth of the Northern Marianas Islands—CNMI (see Hawaii)

Connecticut (see Massachusetts)

Delaware-Maryland

USDA Rural Development State Office, 1221 College Park Drive, Suite 200, Dover, DE 19904, (302) 857-3580/TDD (302) 857-3585

Federated States of Micronesia (see Hawaii)

Florida/Virgin Islands

USDA Rural Development State Office, 4440 NW 25th Place, P.O. Box 147010, Gainesville, FL 32614-7010, (352) 338-3400/TDD (352) 338-3499

Georgia

USDA Rural Development State Office, Stephens Federal Building, 355 E. Hancock Avenue, Athens, GA 30601-2768, (706) 546-2162/TDD (706) 546-2034

Guam (see Hawaii)

Hawaii/Guam/Republic of Palau/Federated States of Micronesia/Republic of the Marshall Islands/American Samoa/Commonwealth of the Northern Marianas Islands—CNMI

USDA Rural Development State Office, Federal Building, Room 311, 154 Waianuenue Avenue, Hilo, HI 96720, (808) 933-8380/TDD (808) 933-8321

Idaho

USDA Rural Development State Office, 9173 West Barnes Drive, Suite A1, Boise, ID 83709, (208) 378-5600/TDD (208) 378-5644

Illinois

USDA Rural Development State Office, 2118 West Park Court, Suite A, Champaign, IL 61821, (217) 403-6200/TDD (217) 403-6240

Indiana

USDA Rural Development State Office, 5975 Lakeside Boulevard, Indianapolis, IN 46278, (317) 290-3100/TDD (317) 290-3343

Iowa

USDA Rural Development State Office, Federal Building, Room 873, 210 Walnut Street, Des Moines, IA 50309, (515) 284-4663/TDD (515) 284-4858

Kansas

USDA Rural Development State Office, 1303 SW. First American Place, Suite 100, Topeka, KS 66604-4040, (785) 271-2700/TDD (785) 271-2767

Kentucky

USDA Rural Development State Office, 771 Corporate Drive, Suite 200, Lexington, KY 40503, (859) 224-7300/TDD (859) 224-7422

Louisiana

USDA Rural Development State Office, 3727 Government Street, Alexandria, LA 71302, (318) 473-7921/TDD (318) 473-7655

Maine

USDA Rural Development State Office, 967 Illinois Avenue, Suite 4, P.O. Box 405 Bangor, ME 04402-0405, (207) 990-9160/TDD (207) 942-7331

Marshall Islands (see Hawaii)

Maryland (see Delaware)

Massachusetts/Rhode Island/Connecticut

USDA Rural Development State Office, 451 West Street, Suite 2, Amherst, MA 01002-2999, (413) 253-4300/TDD (413) 253-4590

Michigan

USDA Rural Development State Office, 3001 Coolidge Road, Suite 200, East Lansing, MI 48823, (517) 324-5190/TDD (517) 324-5169

Minnesota

USDA Rural Development State Office, 375 Jackson Street, Suite 410, St. Paul, MN 55101-1853, (651) 602-7800/TDD (651) 602-3799

Mississippi

USDA Rural Development State Office, Federal Building, Suite 831, 100 West Capitol Street, Jackson, MS 39269, (601) 965-4316/TDD (601) 965-5850

Missouri

USDA Rural Development State Office, 601 Business Loop 70 West, Parkade Center, Suite 235, Columbia, MO 65203, (573) 876-0976/TDD (573) 876-9480

Montana

USDA Rural Development State Office, 2229 Boot Hill Court, Bozeman, MT 59715-7914, (406) 585-2580/TDD (406) 585-2562

Nebraska

USDA Rural Development State Office, Federal Building, Room 152, 100 Centennial Mall North, Lincoln, NE 68508, (402) 437-5551/TDD (402) 437-5093

Nevada

USDA Rural Development State Office, 1390 South Curry Street, Carson City, NV 89703-5146, (775) 887-1222/TDD 7-1-1

New Hampshire (see Vermont)

New Jersey

USDA Rural Development State Office, 8000 Midlantic Drive, 5th Floor North, Suite 500, Mt. Laurel, NJ 08054, (856) 787-7700/TDD (856) 787-7784

New Mexico

USDA Rural Development State Office, 6200 Jefferson Street NE., Room 255, Albuquerque, NM 87109, (505) 761-4950/TDD (505) 761-4938

New York

USDA Rural Development State Office, The Galleries of Syracuse, 441 South Salina Street, Suite 357, Syracuse, NY 13202-2541, (315) 477-6400/TDD (315) 477-6447

North Carolina

USDA Rural Development State Office, 4405 Bland Road, Suite 260, Raleigh, NC 27609, (919) 873-2000/TDD (919) 873-2003

North Dakota

USDA Rural Development State Office, Federal Building, Room 208, 220 East Rosser, P.O. Box 1737, Bismarck, ND 58502-1737, (701) 530-2037/TDD (701) 530-2113

Northern Mariana Islands (see Hawaii)

Ohio

USDA Rural Development State Office, Federal Building, Room 507, 200 North High Street, Columbus, OH 43215-2418, (614) 255-2400/TDD (614) 255-2554

Oklahoma

USDA Rural Development State Office, 100 USDA, Suite 108, Stillwater, OK 74074-2654, (405) 742-1000/TDD (405) 742-1007

Oregon

USDA Rural Development State Office, 1201 NE. Lloyd Blvd., Suite 801, Portland, OR 97232, (503) 414-3300/TDD (503) 414-3387

Palau (see Hawaii)

Pennsylvania

USDA Rural Development State Office, One Credit Union Place, Suite 330, Harrisburg, PA 17110-2996, (717) 237-2299/TDD (717) 237-2261

Puerto Rico

USDA Rural Development State Office, IBM Building, Suite 601, 654 Munos Rivera Avenue, San Juan, PR 00918-6106, (787) 766-5095/TDD (787) 766-5332

Rhode Island (see Massachusetts)

South Carolina

USDA Rural Development State Office, Strom Thurmond Federal Building, 1835 Assembly Street, Room 1007, Columbia, SC 29201, (803) 765-5163/TDD (803) 765-5697

South Dakota

USDA Rural Development State Office, Federal Building, Room 210, 200 Fourth Street SW., Huron, SD 57350, (605) 352-1100/TDD (605) 352-1147

Tennessee

USDA Rural Development State Office, 3322 West End Avenue, Suite 300, Nashville, TN 37203-1084, (615) 783-1300

Texas

USDA Rural Development State Office, Federal Building, Suite 102, 101 South Main, Temple, TX 76501, (254) 742-9700/TDD (254) 742-9712

Utah

USDA Rural Development State Office, Wallace F. Bennett Federal Building, 125 South State Street, Room 4311, Salt Lake City, UT 84138, (801) 524-4321/TDD (801) 524-3309

Vermont/New Hampshire

USDA Rural Development State Office, City Center, 3rd Floor, 89 Main Street, Montpelier, VT 05602, (802) 828-6080/TDD (802) 223-6365

Virginia

USDA Rural Development State Office, 1606 Santa Rosa Road, Suite 238, Richmond, VA 23229-5014, (804) 287-1550/TDD (804) 287-1753

Virgin Islands (see Florida)

Washington

USDA Rural Development State Office, 1835 Black Lake Boulevard SW., Suite B, Olympia, WA 98512-5715, (360) 704-7740/TDD (360) 704-7760

West Virginia

USDA Rural Development State Office, 75 High Street, Room 320, Morgantown, WV 26505-7500, (304) 284-4860/TDD (304) 284-4836

Western Pacific (see Hawaii)

Wisconsin

USDA Rural Development State Office, 4949 Kirschling Court, Stevens Point, WI 54481, (715) 345-7600/TDD (715) 345-7614

Wyoming

USDA Rural Development State Office, 100 East B, Federal Building, Room 1005, P.O. Box 11005, Casper, WY 82602-5006, (307) 233-6700/TDD (307) 233-6733

FOR FURTHER INFORMATION CONTACT: Office of the Deputy Administrator, Cooperative Programs, Rural Business-Cooperative Service, United States Department of Agriculture, 1400 Independence Avenue SW., Mail Stop-3250, Room 4016-South, Washington, DC 20250-3250, (202) 720-7558.

SUPPLEMENTARY INFORMATION:

Overview

Federal Agency: Rural Business-Cooperative Service.

Funding Opportunity Title: Rural Cooperative Development Grants.

Announcement Type: Funding Announcement.

Catalog of Federal Domestic Assistance Number: 10.771.

Date: Application Deadline. You must submit your complete application by August 6, 2012, or it will not be considered for FY 2012 grant funding.

I. Funding Opportunity Description

The primary objective of the RCDG program is to improve the economic condition of rural areas through cooperative development. Grant funds may be used to pay for 75 percent (95 percent when the applicant is a 1994 Institution) of the cost of establishing and operating centers for rural cooperative development. Centers may have the expertise on staff or they can contract out for the expertise, to assist individuals or entities in the startup, expansion or operational improvement of rural businesses, especially cooperative or mutually-owned businesses. The RCDG program is authorized under section 310B(e) of the Consolidated Farm and Rural Development Act (CONACT) (7 U.S.C. 1932(e)). You should become familiar with the regulations for this program published at 7 CFR part 4284, subparts A and F, which are incorporated by reference in this Notice.

Definitions

The terms you need to understand are defined and published at 7 CFR 4284.3 and 7 CFR 4284.504. In addition, the terms “rural” and “rural area,” defined at section 343(a)(13) of the CONACT (7 U.S.C. 1991(a)), are incorporated by reference, and will be used for this program instead of those terms currently published at 7 CFR 4284.3. Finally, there has been some confusion on the Agency's meaning of the terms “conflict of interest,” and “mutually-owned business,” because they are not defined in the CONACT or in the regulations used for the program. Therefore, the terms are clarified and should be understood as follows.

Conflict of interest—A situation in which the ability of a person or entity to act impartially would be questionable due to competing professional or personal interests. An example of conflict of interest occurs when the grantee's employees, board of directors, or the immediate family of either, have the appearance of a professional or personal financial interest in the recipients receiving the benefits or services of the grant.

Mutually-owned business—An organization owned and governed by members who either are its consumers, producers, employees, or suppliers.

II. Award Information

Type of Award: Grant.

Fiscal Year Funds: FY 2012.

Approximate Total Funding: $5.8 million.

Maximum Award: $175,000.

Anticipated Award Date: September 30, 2012.

III. Eligibility Information

A. Eligible Applicants

You must be a nonprofit corporation or an institution of higher education to apply for this program. Public bodies and individuals cannot apply for this program. See 7 CFR 4284.507.

An applicant must obtain a Dun and Bradstreet Data Universal Numbering System (DUNS) number and register in the Central Contractor Registry (CCR) prior to submitting an application. (See 2 CFR 25.200(b)). An applicant must provide their DUNS number in the application. In addition, an applicant must maintain its registration in the CCR database during the time its application is active. Finally, an applicant must have the necessary processes and systems in place to comply with the reporting requirements in 2 CFR 170.200(b), as long as it is not exempted from reporting. Exemptions are identified at 2 CFR 170.110(b).

B. Cost Sharing or Matching

Your matching funds requirement is 25 percent of the total project cost (5 percent for 1994 Institutions). See 7 CFR 4284.508. When you calculate your matching funds requirement, please round up or down to whole dollars as appropriate. An example of how to calculate your matching funds is as follows:

1. Take the amount of grant funds you are requesting and divide it by .75. This will give you your total project cost.

Example: $175,000 (grant amount)/.75 (percentage for use of grant funds) = $233,333 (total project cost).

2. Subtract the amount of grant funds you are requesting from your total project cost. This will give you your matching funds requirement.

Example: $233,333 (total project cost) − $175,000 (grant amount) = $58,333 (matching funds requirement).

3. A quick way to double check that you have the correct amount of matching funds is to take your total project cost and multiply it by .25.

Example: $233,333 (total project cost) × .25 (maximum percentage of matching funds requirement) = $58,333 (matching funds requirement).

You must verify that all matching funds are available during the grant period and provide this documentation with your application. If you are awarded a grant, additional verification documentation may be required to confirm the availability of matching funds.

Other guidelines for matching funds that you must follow are below.

• They must be spent on eligible expenses during the grant period.

• They must be from eligible sources.

• They must be spent in advance or as a pro-rata portion of grant funds being spent.

• They must be provided by either the applicant or a third party in the form of cash or an in-kind contribution.

• They cannot include board/advisory council members' time.

• They cannot include other Federal grants unless provided by authorizing legislation.

• They cannot include cash or in-kind contributions donated outside the grant period.

• They cannot include over-valued, in-kind contributions.

• They cannot include any project costs that are ineligible under the RCDG program.

• They can include loan funds from a Federal source.

• They can include travel and incidentals for board/advisory council members if you have established written policies explaining how these costs are normally reimbursed, including rates. You must include an explanation of this policy in your application or the contributions will not be considered as eligible matching funds.

• You must be able to document and verify the number of hours worked and the value associated with any in-kind contribution being used to meet a matching funds requirement.

• In-kind contributions provided by individuals, businesses, or cooperatives which are being assisted by you cannot be provided for the direct benefit of their own projects as USDA Rural Development considers this to be a conflict of interest or the appearance of a conflict of interest.

C. Other Eligibility Requirements

Your application will not be considered for funding if it does not propose the establishment or continuation of a cooperative development center concept. You must use project funds, including grant and matching funds for eligible purposes (See 7 CFR 4284.508). In addition, project funds may be used for programs providing for the coordination of services and sharing of information among the Centers (See 7 U.S.C. 1932(e)(4)(C)(vi)). All project activities must be for the benefit of a rural area.

Project funds, including grant and matching funds cannot be used for ineligible grant purposes (See 7 CFR 4284.10). Also, you may not use project funds for the following:

1. To purchase, rent, or install laboratory equipment or processing machinery;

2. To pay for the operating costs of any entity receiving assistance from the Center;

3. To pay costs of the project where a conflict of interest exists; or

4. To fund any activities prohibited by 7 CFR parts 3015 or 3019.

In addition, your application will not be considered for funding if it does any of the following:

• Focuses assistance on only one cooperative or mutually-owned business;

• Requests more than the maximum grant amount; or

• Proposes ineligible costs that equal more than 10 percent of total project costs.

We will consider your application for funding if it includes ineligible costs of 10 percent or less of total project costs, as long as it is determined eligible otherwise. However, if your application is successful, those ineligible costs must be removed and replaced with eligible costs, before the Agency will make the grant award, or the amount of the grant award will be reduced accordingly. If we cannot determine the percentage of ineligible costs, your application will not be considered for funding.

D. Grant Period

Your application must include a one-year grant period or it will not be considered for funding. The grant period should begin no earlier than October 1, 2012, and no later than January 1, 2013. Prior approval is needed from the Agency if you are awarded a grant and desire the grant period to begin earlier or later than previously discussed. Projects must be completed within the one-year timeframe. The Agency may approve requests to extend the grant period for up to an additional 12 months at its discretion. Further guidance on grant period extensions will be provided in the award document.

If you have an existing RCDG award, you must be performing satisfactorily to be considered eligible for a new award. Satisfactory performance includes being up-to-date on all financial and performance reports and being current on all tasks as approved in the work plan. The Agency will use its discretion to make this determination.

E. Completeness

Your application will not be considered for funding if it does not provide sufficient information to determine eligibility and scoring. In particular, you must include all of the forms and proposal elements as discussed in the regulation and as clarified further in this Notice. For more information on what is required for an application, see 7 CFR 4284.510.

IV. Application and Submission Information

A. Address To Request Application Package

For further information, you should contact your State Office identified in the ADDRESSES section of this Notice. Application materials may also be obtained at http://www.rurdev.usda.gov/BCP-RCDG_Grants.html.

B. Form of Submission

• You may submit your application in paper form or electronically. If you submit in paper form, any forms requiring signatures must include an original signature. To submit an application electronically, you must use the Grants.gov Web site at http://www.grants.gov. You may not submit an application electronically in any way other than through Grants.gov.

• When you enter the Grants.gov Web site, you will find information about submitting an application electronically through the site, as well as the hours of operation.

• To use Grants.gov, you must have a DUNS number, which can be obtained at no cost via a toll-free request line at (866) 705-5711. Please note that obtaining the DUNS number is required, prior to submitting an application. You must also maintain registration in the CCR database. (See 2 CFR part 25.) You may register for the CCR at https://www.uscontractorregistration.com/, or by calling (877) 252-2700.

• You must submit all of your application documents electronically through Grants.gov.

• After electronically submitting an application through Grants.gov, you will receive an automatic acknowledgement from Grants.gov that contains a Grants.gov tracking number.

• You may be required to provide original signatures on forms at a later date.

• You can locate the Grants.gov downloadable application package for this program by using a keyword, the program name, the Catalog of Federal Domestic Assistance Number, or the Funding Opportunity Number.

C. Application Contents

Your application must contain all of the required forms and proposal elements described in 7 CFR 4284.510 and as otherwise clarified in this Notice. Specifically, your application must include (1) the required forms as described in 7 CFR 4284.510(b) and (2) the required proposal elements as described in 7 CFR 4284.510(c). Further clarification of application requirements is as follows.

1. Clarifications on Forms

a. Your DUNS number should be identified in the “Organizational DUNS” field on Standard Form (SF) 424, “Application for Federal Assistance.” Since there are no specific fields for a CCR number (formerly called a Commercial and Government Entity code or a CAGE code) and expiration date, you may identify them anywhere you want to on form SF 424. In addition, you should provide the DUNS and the CCR number and expiration date under the applicant eligibility discussion in your proposal narrative. If you do not include the CCR number and expiration date and the DUNS in your application, it will not be considered for funding.

b. You can voluntarily fill out and submit the “Survey on Ensuring Equal Opportunity for Applicants” as part of your application if you are a nonprofit organization.

2. Clarifications on Proposal Elements

a. You must include the title of the project as well as any other relevant identifying information on the Title Page.

b. You must include page numbers on the Table of Contents for each component of the application to facilitate review.

c. Your Executive Summary must include the items in 7 CFR 4284.510(c)(3), and also discuss the percentage of work that will be performed among organizational staff, consultants, or other contractors. It should not exceed two pages.

d. Your Eligibility Discussion must not exceed two pages and cover how you meet the eligibility requirements for applicant, matching funds, other eligibility requirements and grant period.

e. Your Proposal Narrative must not exceed 40 pages and should describe the essential aspects of the project.

1. You are only required to have one title page for the proposal.

2. If you list the evaluation criteria on the Table of Contents and specifically and individually addressed each criterion in narrative form, then it is not necessary for you to include an Information Sheet. Otherwise the Information Sheet is required under 7 CFR 4284.510(c)(ii).

3. You should include the following under Goals of the Project.

A. A statement that substantiates that the Center will effectively serve rural areas in the United States;

B. A statement that the primary objective of the Center will be to improve the economic condition of rural areas through cooperative development;

C. A description of the contributions that the proposed activities are likely to make to the improvement of the economic conditions of the rural areas for which the Center will provide services. Expected economic impacts should be tied to tasks included in the work plan and budget; and

D. A statement that the Center, in carrying out its activities, will seek, where appropriate, the advice, participation, expertise, and assistance of representatives of business, industry, educational institutions, the Federal government, and State and local governments.

4. The Agency has established annual performance evaluation measures to evaluate the RCDG program. You must provide estimates on the following performance evaluation measures.

• Number of groups who are not legal entities assisted.

• Number of businesses that are not cooperatives assisted.

• Number of cooperatives assisted.

• Number of businesses incorporated that are not cooperatives.

• Number of cooperatives incorporated.

• Total number of jobs created as a result of assistance.

• Total number of jobs saved as a result of assistance.

• Number of jobs created for the Center as a result of RCDG funding.

• Number of jobs saved for the Center as a result of RCDG funding.

It is permissible to have a zero in a performance element. When you calculate jobs created, estimates should be based upon actual jobs to be created by your organization as a result of the RCDG funding or actual jobs to be created by cooperative businesses or other businesses as a result of assistance from your organization. When you calculate jobs saved, estimates should be based only on actual jobs that have been lost if your organization did not receive RCDG funding or actual jobs that would have been lost without assistance from your organization.

5. You can also suggest additional performance elements for example where job creation or jobs saved may not be a relevant indicator (e.g. housing). These additional criteria should be specific, measurable performance elements that could be included in an award document.

6. You must describe in the application how you will undertake to do each of the following. We would prefer if you described these undertakings within proposal evaluation criteria to reduce duplication in your application. The specific proposal evaluation criterion where you should address each undertaking is noted below.

a. Take all practicable steps to develop continuing sources of financial support for the Center, particularly from sources in the private sectors (should be presented under proposal evaluation criterion number 10, utilizing the specific requirements of Section V.B.10);

b. Make arrangements for the Center's activities to be monitored and evaluated (should be addressed under proposal evaluation criterion number 8 utilizing the specific requirements of Section V.B.8); and

c. Provide an accounting for the money received by the grantee in accordance with 7 CFR part 4284, subpart F. This should be addressed under proposal evaluation criterion number 1, utilizing the specific requirements of Section V.B.1.

7. You should present the Work Plan and Budget proposal element under proposal evaluation criterion number 8, utilizing the specific requirements of Section V.B.8 of this Notice to reduce duplication in your application.

8. You should present the Delivery of Cooperative development assistance proposal element under proposal evaluation criterion number 2, utilizing the specific requirements of Section V.B.2 of this Notice.

9. You should present the Qualifications of Personnel proposal element under proposal evaluation criterion number 9, utilizing the specific requirements of Section V.B.9 of this Notice.

10. You should present the Local Support and Future Support proposal elements under proposal evaluation criterion number 10, utilizing the requirements of Section V.B.10 of this Notice.

11. Your application will not be considered for funding if you do not address all of the proposal evaluation criteria. See Section V.B of this Notice for a description of the proposal evaluation criteria.

f. You must certify that there are no current outstanding Federal judgments against your property and that you will not use grant funds to pay for any judgment obtained by the United States. To satisfy the Certification requirement, you should include this statement in your application: “[INSERT NAME OF APPLICANT] certifies that the United States has not obtained an unsatisfied judgment against its property and will not use grant funds to pay any judgments obtained by the United States.” A separate signature is not required.

g. Awards made under this announcement are subject to the provisions contained in the Agriculture, Rural Development, Food and Drug Administration, and Related Agencies Appropriations Act, 2012, Public Law 112-55, Division A, Sections 738 and 739 regarding corporate felony convictions and corporate federal tax delinquencies. To comply with these provisions, all applicants must complete the paragraph (1) of this representation, and all corporate applicants also must complete paragraphs (2) and (3) of this representation.

(1) Applicant ________ [INSERT NAME OF APPLICANT] is _ is not _ (check one) an entity that has filed articles of incorporation in one of the fifty states, the District of Columbia, or the various territories of the United States including American Samoa, Federated States of Micronesia, Guam, Midway Islands, Northern Mariana Islands, Puerto Rico, Republic of Palau, Republic of the Marshall Islands, U.S. Virgin Islands. (Note that this includes both for-profit and non-profit organizations.)

If Applicant checked “is” above, Applicant must complete paragraphs (2) and (3) of the representation. If Applicant checked “is not” above, Applicant may leave the remainder of the representation blank.

(2) Applicant________ [INSERT NAME OF APPLICANT] has _ has not _ (check one) been convicted of a felony criminal violation under Federal or State law in the 24 months preceding the date of application. Applicant has _ has not _ (check one) had any officer or agent convicted of a felony criminal violation for actions taken on behalf of Applicant under Federal or State law in the 24 months preceding the date of signature.

(3) Applicant ________ [INSERT NAME OF APPLICANT] has _ does not have _ (check one) any unpaid Federal tax liability that has been assessed, for which all judicial and administrative remedies have been exhausted or have lapsed, and that is not being paid in a timely manner pursuant to an agreement with the authority responsible for collecting the tax liability.

h. You must certify that matching funds will be available at the same time grant funds are anticipated to be spent and that expenditures of matching funds are pro-rated or spent in advance of grant funding, such that for every dollar of the total project cost, not less than the required amount of matching funds will be expended. Please note that this Certification is a separate requirement from the Verification of Matching Funds requirement. To satisfy the Certification requirement, you should include this statement in your application: “[INSERT NAME OF APPLICANT] certifies that matching funds will be available at the same time grant funds are anticipated to be spent and that expenditures of matching funds shall be pro-rated or spent in advance of grant funding, such that for every dollar of the total project cost, at least 25 cents (5 cents for 1994 Institutions) of matching funds will be expended.” A separate signature is not required.

i. You must provide documentation in your application to verify all of your proposed matching funds. The documentation must be included in Appendix A of your application and will not count towards the 40-page limitation. Template letters are available for each type of matching funds contribution at http://www.rurdev.usda.gov/BCP-RCDG_Grants.html.

If matching funds are to be provided in cash, you must meet the following requirements.

• You: The application must include a statement verifying (1) the amount of the cash, and (2) the source of the cash.

• Third-party: The application must include a signed letter from the third party verifying (1) how much cash will be donated, and (2) that it will be available corresponding to the proposed grant period or donated on a specific date within the grant period.

If matching funds are to be provided by an in-kind donation, you must meet the following requirements.

• You: The application must include a signed letter from you or your authorized representative verifying (1) the nature of the goods and/or services to be donated and how they will be used, (2) when the goods and/or services will be donated (i.e., corresponding to the proposed grant period or to specific dates within the grant period), and (3) the value of the goods and/or services.

• Third-Party: The application must include a signed letter from the third party verifying (1) The nature of the goods and/or services to be donated and how they will be used, (2) when the goods and/or services will be donated (i.e., corresponding to the proposed grant period or to specific dates within the grant period), and (3) the value of the goods and/or services.

To ensure that you are identifying and verifying your matching funds appropriately, please note the following:

• If you are paying for goods and/or services as part of the matching funds requirement, the expenditure is considered a cash match, and you should verify it as such.

• You can only consider goods or services for which no expenditure is made as an in-kind contribution.

• If a non-profit or another organization contributes the services of affiliated volunteers, they must follow the third-party, in-kind donation verification requirement for each individual volunteer.

• Expected program income may not be used to fulfill your matching funds requirement at the time you submit your application. However, if you have a contract to provide services in place at the time you submit your application, you can verify the amount of the contract as a cash match.

• The valuation process you use for in-kind contributions does not need to be included in your application, but you must be able to demonstrate how the valuation was derived if you are awarded a grant. The grant award may be withdrawn or the amount of the grant reduced if you cannot demonstrate how the valuation was derived.

D. Submission Dates and Times

Application Deadline Date: August 6, 2012.

Explanation of Deadlines: Complete paper applications must be received in the State Office by the deadline date, 4:00 p.m. local time. Electronic applications submitted through http://www.grants.gov will be accepted by the system through midnight eastern time on the deadline date. Your application will not be considered for funding if it does not meet the applicable deadline date and time.

E. Intergovernmental Review of Applications

Executive Order (EO) 12372, “Intergovernmental Review of Federal Programs,” applies to this program. This EO requires that Federal agencies provide opportunities for consultation on proposed assistance with State and local governments. Many States have established a Single Point of Contact (SPOC) to facilitate this consultation. For a list of States that maintain a SPOC, please see the White House Web site: http://www.whitehouse.gov/omb/grants_spoc. If your State has a SPOC, you may submit a copy of the application directly for review. Any comments obtained through the SPOC must be provided to your State Office for consideration as part of your application. If your State has not established a SPOC, or if you do not want to submit a copy of the application, our State Offices will submit your application to the SPOC or other appropriate agency or agencies.

F. Environmental Review

Applications for financial assistance are subject to an environmental review. However, if your application is for technical assistance or planning purposes, it is generally excluded from the environmental review process (See 7 CFR 1940.310(e)(1)). We will ensure that any required environmental review is completed prior to approval of an application or obligation of funds.

V. Application Review Information

A. Application and Scoring Process

The State Offices will review applications to determine if they are eligible for assistance based on requirements in 7 CFR part 4284, subparts A and F, this Notice, and other applicable Federal regulations. If determined eligible, your application will be scored by a panel of USDA employees in accordance with the point allocation specified in this Notice. A recommendation will be submitted to the Administrator to fund applications in highest ranking order. In some cases, applications that cannot be fully funded may be offered partial funding.

B. Scoring Criteria

Scoring criteria will follow criteria published at 7 CFR 4284.513 as supplemented below including any amendments made by the Food, Conservation, and Energy Act of 2008, which is incorporated by reference in this Notice. The regulatory and statutory criteria are clarified and supplemented below. You should also include information as described in Section IV.C.6 (a)-(c). Evaluators will base scores only on the information provided or cross-referenced by page number in each individual evaluation criterion. The maximum amount of points available is 100. Newly established or proposed Centers that do not yet have a track record on which to evaluate the following criteria should refer to the expertise and track records of staff or consultants expected to perform tasks related to the respective criteria. Proposed or newly established Centers must be organized well-enough at time of application to address its capabilities for meeting these criteria.

1. Administrative capabilities (maximum score of 10 points). A panel of USDA employees will evaluate your demonstrated track record in carrying out activities in support of development assistance to cooperatively and mutually owned businesses. At a minimum, you must discuss the following administrative capabilities:

a. Financial systems and audit controls;

b. Personnel and program administration performance measures;

c. Clear written rules of governance; and

d. Experience administering Federal grant funding, including but not limited to past RCDG's.

If you discuss the Center's administrative capabilities and track record, versus those of umbrella or supporting institutions, such as universities or parent organizations, you will score higher on this factor.

2. Technical assistance and other services (maximum score of 10 points). A panel of USDA employees will evaluate your demonstrated expertise in providing technical assistance and accomplishing effective outcomes in rural areas to promote and assist the development of cooperatively and mutually owned businesses. You must discuss at least:

a. Your potential for delivering effective technical assistance;

b. The types of assistance provided;

c. The expected effects of that assistance;

d. The sustainability of organizations receiving the assistance; and

e. The transferability of your cooperative development strategies and focus to other areas of the U.S.

In addition, if you discuss the demonstrated expertise specific to the Center (as opposed to umbrella or supporting institutions such as universities or parent organizations), you will score higher on this factor.

3. Economic development (maximum score of 10 points). A panel of USDA employees will evaluate your demonstrated ability to facilitate:

a. Establishment of cooperatives or mutually owned businesses;

b. New cooperative approaches; and

c. Retention of businesses, generation of employment opportunities or other factors, as applicable, that will otherwise improve the economic conditions of rural areas.

If you provide statistics for historical and potential development and identify your role in economic development outcomes, you will score higher on this factor.

4. Past performance (maximum score of 10 points). A panel of USDA employees will evaluate your demonstrated past performance in establishing legal cooperative business entities and other legal business entities over the most recently completed three year Federal fiscal year period. Documentation verifying the establishment of legal business entities must be included in Appendix C of your application and will not count against the 40-page limit for the narrative. The documentation must include an organizational document from the Secretary of State's Office; or if the business entity is not required to register with the Secretary of State, a certification from the business entity that a legal business entity has been established and when. Centers that have established more legal business entities will score higher on this factor.

5. Networking and regional focus (maximum score of 10 points). A panel of USDA employees will evaluate your demonstrated commitment to:

a. Networking with other cooperative development centers, and other organizations involved in rural economic development efforts, and

b. Developing multi-organization and multi-state approaches to addressing the economic development and cooperative needs of rural areas.

6. Commitment (maximum score of 10 points). A panel of USDA employees will evaluate your commitment to providing technical assistance and other services to under-served and economically distressed areas in rural areas of the United States. If you define and describe the underserved and economically distressed areas within your service area, provide statistics, and identify projects within or affecting these areas, as appropriate, you will score higher on this factor.

7. Matching Funds (maximum score of 10 points). A panel of USDA employees will evaluate your commitment for the 25 percent (5 percent for 1994 Institutions) matching funds requirement. Discussion or a table may be provided to describe all matching funds being committed to the project. However, formal documentation to verify all of the matching funds must be included in Appendix A of your application. If you provide additional matching funds in the form of cash or in-kind match that exceeds the 25 percent matching funds requirement, you will score higher on this factor. If you provide additional matching funds in the form of a cash-only match that exceeds the 25 percent matching funds requirement, you will score highest on this factor.

8. Work Plan/Budget (maximum score of 10 points). A panel of USDA employees will evaluate your work plan for detailed actions and an accompanying timetable for implementing the proposal. Clear, logical, realistic, and efficient plans will result in a higher score. Budgets will be reviewed for completeness and the quality of non-Federal funding commitments. You must discuss at a minimum:

a. Specific tasks (whether it be by type of service or specific project) to be completed using grant and matching funds;

b. How customers will be identified;

c. Key personnel; and

d. The evaluation methods to be used to determine the success of specific tasks and overall objectives of Center operations.

The budget must present a breakdown of the estimated costs associated with cooperative and business development activities as well as the operation of the Center and allocate these costs to each of the tasks to be undertaken. Matching funds as well as grant funds must be accounted for in the budget.

9. Qualifications of those Performing the Tasks (maximum score of 10 points). A panel of USDA employees will evaluate your application to determine if the personnel expected to perform key tasks have a track record of:

a. Positive solutions for complex cooperative development and/or marketing problems; or

b. A successful record of conducting accurate feasibility studies, business plans, marketing analysis, or other activities relevant to your success as determined by the tasks identified in the your work plan; and

c. Whether the personnel expected to perform the tasks are full/part-time employees of your organization or are contract personnel.

If you demonstrate commitment/availability of qualified personnel expected to perform the tasks, you will score higher on this factor.

10. Local and Future Support (maximum score of 10 points). A panel of USDA employees will evaluate your application for local and future support. Support should be discussed directly within the response to this criterion.

a. Discussion on local support should include previous and/or expected local support and plans for coordinating with other developmental organizations in the proposed service area or with state and local government institutions. If you demonstrate strong support from potential beneficiaries and formal evidence of intent to coordinate with other developmental organizations, you will score higher on this factor. You may also submit a maximum of 10 letters of support or intent to coordinate with the application. These letters should be included in Appendix B of your application and will not count against the 40-page limit for the narrative.

b. Discussion on future support will include your vision for funding operations in future years. You should document:

1. New and existing funding sources that support your goals;

2. Alternative funding sources that reduce reliance on Federal, State, and local grants; and

3. The use of in-house personnel for providing services versus contracting out for that expertise.

If you demonstrate vision and likelihood of long-term sustainability with diversification of funding sources and building in-house technical assistance capacity, you will score higher on this factor.

VI. Award Administration Information

A. Award Notices

If your application is successful, you will receive notification regarding funding from the State Office where your application is submitted or headquarter if you submit your application via Grants.gov. You must comply with all applicable statutes, regulations, and notice requirements before the grant award will be approved. If your application is not successful, you will receive notification, including mediation and appeal rights by mail. See 7 CFR part 11 for USDA National Appeals Division procedures.

B. Administrative and National Policy Requirements

Additional requirements that apply to grantees selected for this program can be found in 7 CFR part 4284, subparts A and F, Parts 3015, 3019, 3052 and 2 CFR parts 215 and 417. All recipients of Federal financial assistance are required to report information about first-tier subawards and executive compensation (See 2 CFR part 170). You will be required to have the necessary processes and systems in place to comply with the Transparency Act reporting requirements (See 2 CFR 170.200(b), unless you are exempt under 2 CFR 170.110(b)).

The following additional requirements apply to grantees selected for this program:

• Agency-approved Grant Agreement.

• Letter of Conditions.

• Form RD 1940-1, “Request for Obligation of Funds.”

• Form RD 1942-46, “Letter of Intent To Meet Conditions.”

• Form AD-1047, “Certification Regarding Debarment, Suspension, and Other Responsibility Matters—Primary Covered Transactions.”

• Form AD-1048, “Certification Regarding Debarment, Suspension, Ineligibility and Voluntary Exclusion-Lower Tier Covered Transactions.”

• Form AD-1049, “Certification Regarding Drug-Free Workplace Requirements (Grants).”

• Form RD 400-4, “Assurance Agreement.”

• SF LLL, “Disclosure of Lobbying Activities,” if applicable.

VII. Agency Contacts

If you have questions about this Notice, please contact the State Office as identified in the ADDRESSES section of this Notice.

VIII. Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., Stop 9410, Washington, DC 20250-9410, or call toll-free at (866) 632-9992 (English) or (800) 877-8339 (TDD) or (866) 377-8642 (English Federal-relay) or (800) 845-6136 (Spanish Federal-relay). USDA is an equal opportunity provider and employer.

Dated: May 21, 2012.
John C. Padalino,
Acting Administrator, Rural Business Cooperative Service.

[FR Doc. 2012-13833 Filed 6-6-12; 8:45 am]

BILLING CODE 3410-XY-P